DEPARTMENT OF COMMERCE

International Trade Administration

[A-588-804, A-412-801]

Ball Bearings and Parts Thereof from Japan and the United Kingdom: Final Results of Antidumping Duty Administrative Reviews and Rescission of Review in Part; 2009-2010

AGENCY: Enforcement and Compliance, International Trade Administration, Department of Commerce.

SUMMARY: On April 21, 2011, the Department of Commerce (the Department) published the preliminary results of the administrative reviews of the antidumping duty orders on ball bearings and parts thereof from Japan and the United Kingdom.¹ On March 25, 2014, the Department issued its post-preliminary analysis in these reviews. For these final results, we continue to find that sales of the subject merchandise have not been made at prices below normal value.

¹ See Ball Bearings and Parts Thereof From France, Germany, Italy, Japan, and the United Kingdom: Preliminary Results of Antidumping Administrative and Changed-Circumstances Reviews, 76 FR 22372 (April 21, 2011) (Preliminary Results).

DATES: Effective Date: June 20, 2014.

FOR FURTHER INFORMATION CONTACT: Thomas Schauer, AD/CVD Operations, Office I, Enforcement and Compliance, International Trade Administration, U.S. Department of Commerce, 14th Street and Constitution Avenue NW., Washington, DC 20230; telephone: (202) 482-0410.

SUPPLEMENTARY INFORMATION:

Background

On April 21, 2011, the Department published, and invited interested parties to comment on, the Preliminary Results.² The period of reviews is May 1, 2009, through April 30, 2010. We received case and rebuttal briefs from various parties to these reviews. On July 15, 2011, the Department discontinued these reviews.³

² Id.

³ See Ball Bearings and Parts Thereof From Japan and the United Kingdom: Revocation of Antidumping Duty Orders, 76 FR 41761 (July 15, 2011).

The Department resumed these reviews effective November 29, 2013, pursuant to court judgment.⁴ On March 25, 2014, we issued a post-preliminary analysis in which we (1) addressed the methodology stated in the Final Modification for Reviews ⁵ as it pertained to these administrative reviews and (2) stated our intent to rescind the review in part with respect to the administrative review of ball bearings and parts thereof from Japan.⁶ We invited comments from interested parties for the Post-Preliminary Analysis.⁷ We received additional case and rebuttal briefs from interested parties commenting on the Post-Preliminary Analysis. The Department conducted these administrative reviews in accordance with section 751 of the Tariff Act of 1930, as amended (the Act).

⁴ See Ball Bearings and Parts Thereof From Japan and the United Kingdom: Notice of Reinstatement of Antidumping Duty Orders, Resumption of Administrative Reviews, and Advance Notification of Sunset Reviews, 78 FR 76104 (December 16, 2013).

⁵ See Antidumping Proceedings: Calculation of the Weighted-Average Dumping Margin and Assessment Rate in Certain Antidumping Duty Proceedings; Final Modification, 77 FR 8101, 8113 (February 14, 2012) (Final Modification for Reviews), in which the Department stated that the methodology described therein “will also be applicable to any reviews currently discontinued by the Department if such reviews are continued after April 16, 2012 by reason of a final and conclusive judgment of a U.S. Court.” See also 19 CFR 351.414.

⁶ See the memorandum from Deputy Assistant Secretary Christian Marsh to Assistant Secretary Paul Piquado entitled “Administrative Reviews of the Antidumping Duty Orders on Ball Bearings and Parts Thereof from Japan and the United Kingdom for the 2009-2010 Period: Post-Preliminary Analysis Memorandum and Intent to Rescind a Review in Part” dated March 25, 2014 (Post-Preliminary Analysis).

⁷ Id.

Scope of the Orders

The products covered by the orders are ball bearings and parts thereof. Imports of these products are classified under the following Harmonized Tariff Schedule of the United States (HTSUS) subheadings: 3926.90.45, 4016.93.10, 4016.93.50, 6909.19.50.10, 8414.90.41.75, 8431.20.00, 8431.39.00.10, 8482.10.10, 8482.10.50, 8482.80.00, 8482.91.00, 8482.99.05, 8482.99.35, 8482.99.25.80, 8482.99.65.95, 8483.20.40, 8483.20.80, 8483.30.40, 8483.30.80, 8483.50.90, 8483.90.20, 8483.90.30, 8483.90.70, 8708.50.50, 8708.60.50, 8708.60.80, 8708.93.30, 8708.93.60.00, 8708.99.06, 8708.99.31.00, 8708.99.40.00, 8708.99.49.60, 8708.99.58, 8708.99.80.15, 8708.99.80.80, 8803.10.00, 8803.20.00, 8803.30.00, 8803.90.30, 8803.90.90, 8708.30.50.90, 8708.40.75.70, 8708.40.75.80, 8708.50.79.00, 8708.50.89.00, 8708.50.91.50, 8708.50.99.00, 8708.70.60.60, 8708.80.65.90, 8708.93.75.00, 8708.94.75, 8708.95.20.00, 8708.99.55.00, 8708.99.68, and 8708.99.81.80. Although the HTSUS item numbers above are provided for convenience and customs purposes, the written descriptions of the scope of the orders remain dispositive. A full description of the scope of the orders is contained in the Issues and Decision Memorandum.⁸

⁸ See the memorandum from Deputy Assistant Secretary Christian Marsh to Deputy Assistant Secretary Lynn Fischer Fox entitled “Issues and Decision Memorandum for the Antidumping Duty Administrative Reviews of Ball Bearings and Parts Thereof from Japan and the United Kingdom; 2009-2010” dated concurrently with this notice and hereby adopted by this notice (Issues and Decision Memorandum).

Analysis of the Comments Received

All issues raised in the case briefs by parties to these administrative reviews are addressed in the Issues and Decision Memorandum. A list of the issues which parties have raised and to which we have responded is in the Issues and Decision Memorandum and attached to this notice as an Appendix. The Issues and Decision Memorandum is a public document and is on file electronically via Enforcement and Compliance's Antidumping and Countervailing Duty Centralized Electronic Service System (IA ACCESS). IA ACCESS is available to registered users at http://iaaccess.trade.gov and it is available to all parties in the Central Records Unit (CRU), room 7046 of the main Department of Commerce building. In addition, a complete version of the Issues and Decision Memorandum can be accessed directly on the internet at http://enforcement.trade.gov/frn/. The signed Issues and Decision Memorandum and the electronic versions of the Issues and Decision Memorandum are identical in content.

Rescission of Review in Part

In the Post-Preliminary Analysis, we stated our intent to rescind the administrative review of ball bearings and parts thereof from Japan in part, for Tsubakimoto Precision Products Co., Ltd. (Tsubakimoto). Because no interested parties provided comments concerning our intent to rescind in part, we are rescinding the Japan review with respect to Tsubakimoto.

Changes Since the Preliminary Results

Based on our analysis of the comments received, we made revisions and corrected programming and other errors in the weighted-average dumping margins which we included in the Preliminary Results and the Post-Preliminary Analysis, where applicable. These changes, however, did not affect the final weighted-average dumping margins for the reviewed respondents. A detailed discussion of each change we made is in the company-specific analysis memoranda dated concurrently with this notice, which are on file electronically via IA ACCESS and in the CRU of the main Commerce building.⁹

⁹ See the company-specific final analysis memoranda for Asahi Seiko Co., Ltd., NSK Ltd., NTN Corporation, and NSK Bearings Europe Ltd. dated concurrently with this notice.

Final Results of the Reviews

We determine that the weighted-average dumping margins on ball bearings and parts thereof exist for the period May 1, 2009, through April 30, 2010, at the following rates:

Japan
Company | Rate (percent)
Asahi Seiko Co., Ltd | 0.00
Audi AG | 0.00
Bosch Corporation | 0.00
Bosch Packaging Technology K.K | 0.00
Bosch Rexroth Corporation | 0.00
Caterpillar Japan Ltd | 0.00
Caterpillar Overseas S.A.R.L | 0.00
Caterpillar Group Services S.A | 0.00
Caterpillar Brazil Ltd | 0.00
Caterpillar Africa Pty. Ltd | 0.00
Caterpillar of Australia Pty. Ltd | 0.00
Caterpillar S.A.R.L | 0.00
Caterpillar Americas Mexico, S. de R.L. de C.V | 0.00
Caterpillar Logistics Services China Ltd | 0.00
Caterpillar Mexico, S.A. de C.V | 0.00
Hagglunds Ltd | 0.00
Hino Motors Ltd | 0.00
JTEKT Corporation (formerly known as Koyo Seiko Co., Ltd.) | 0.00
Kongskilde Limited | 0.00
Mazda Motor Corporation | 0.00
Mori Seiki Co., Ltd | 0.00
Nachi-Fujikoshi Corporation | 0.00
Nissan Motor Company, Ltd | 0.00
NSK Ltd | 0.00
NTN Corporation and NTN Kongo Corporation | 0.00
Perkins Engines Company Limited | 0.00
Volkswagen AG | 0.00
Volkswagen Zubehor GmbH | 0.00
Yamazaki Mazak Trading Corporation | 0.00

United Kingdom
Company | Rate (percent)
Alcatel Vacuum Technology | 0.00
Bosch Rexroth Ltd | 0.00
Caterpillar S.A.R.L | 0.00
Caterpillar Group Services S.A | 0.00
Caterpillar of Australia Pty Ltd | 0.00
Caterpillar Overseas S.A.R.L | 0.00
Caterpillar Marine Power UK | 0.00
NSK Bearings Europe Ltd | 0.00
Perkins Engines Company Ltd | 0.00
SKF (U.K.) Limited and SKF Aeroengine Bearings U.K | 0.00

Assessment Rates

In accordance with the Final Modification for Reviews,¹⁰ we will instruct U.S. Customs and Border Protection (CBP) to liquidate the entries pertaining to these reviews without regard to antidumping duties because the weighted-average dumping margin for each respondent is zero or de minimis.

¹⁰ See Antidumping Proceedings: Calculation of the Weighted-Average Dumping Margin and Assessment Rate in Certain Antidumping Duty Proceedings; Final Modification, 77 FR 8101 (February 14, 2012) (Final Modification).

The Department clarified its “automatic assessment” regulation on May 6, 2003. This clarification will apply to entries of subject merchandise during the period of review produced by companies selected for individual examination in these reviews for which the reviewed companies did not know their merchandise was destined for the United States. In such instances, we will instruct CBP to liquidate unreviewed entries at the country-specific all-others rate if there is no rate for the intermediate company(ies) involved in the transaction. For a full discussion of this clarification, see Antidumping and Countervailing Duty Proceedings: Assessment of Antidumping Duties, 68 FR 23954 (May 6, 2003).

We intend to issue liquidation instructions to CBP 15 days after publication of the final results of these reviews.

Cash Deposit Requirements

Because we revoked the antidumping duty orders on ball bearings and parts thereof from Japan and the United Kingdom effective September 15, 2011, no cash deposits for estimated antidumping duties on future entries of subject merchandise will be required.¹¹

¹¹ See Ball Bearings and Parts Thereof From Japan and the United Kingdom: Final Results of Sunset Reviews and Revocation of Antidumping Duty Orders, 79 FR 16771 (March 26, 2014).

Notifications

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely written notification of the return or the destruction of APO materials or conversion to judicial protective order is hereby requested. Failure to comply with the regulations and the terms of an APO is a sanctionable violation.

These final results of administrative reviews are issued and published in accordance with sections 751(a)(1) and 777(i)(1) of the Act.

Dated: June 13, 2014.
Lynn Fischer Fox,
Deputy Assistant Secretary, for Policy and Negotiations.

Appendix

I. Summary

II. Background

III. Company Abbreviations

IV. Other Abbreviations

V. AFBs Administrative Determinations and Results

VI. Scope of the Orders

VII. Rates for Non-Selected Companies

VIII. Sales Below Cost in the Home Market

IX. Discussion of the Issues

1. Whether to Use an Alternative Method

2. Model Match and Differences in Merchandise

3. Billing Adjustments

4. Inventory Carrying Costs

5. Selling, General, and Administrative Expenses

6. Request to Reject Factual Information and Targeted Dumping Analyses

7. Contemporaneous Sampled Sales

8. Treatment of Repacking Expenses

9. Rescission of Review for No Shipments

10. Respondent Selection Methodology

11. Request to Terminate the Administrative Reviews

12. 15-Day Issuance of Liquidation Instructions

13. U.S. Customer Code

14. Denial of Offsets for Non-Dumped Sales

15. Clerical Errors

X. Recommendation

[FR Doc. 2014-14493 Filed 6-19-14; 8:45 am]

BILLING CODE 3510-DS-P